DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Michael K. Hartzer, Ph.D., Oakland University: Based on the report of an investigation conducted by Oakland University and additional analysis conducted by ORI during its oversight review, PHS found that Dr. Hartzer, former Associate Professor of Biomedical Sciences, Eye Institute, Oakland University, engaged in scientific misconduct by falsifying the status of support materials in eight National Eye Institute (NEI), National Institutes of Health (NIH), grant applications.

Specifically, Dr. Hartzer falsified the status of 11 manuscripts in eight grant applications by listing them as “accepted” or “in press” when the papers had either not been subsequently published or had been rejected. The repetition of these actions over several years indicates a pattern of knowingly misrepresenting the research record.

Dr. Hartzer has accepted the PHS finding and has entered into a Voluntary Exclusion Agreement with PHS in which he has voluntarily agreed for a period of three (3) years, beginning on November 20, 2000:

(1) That he must submit with each PHS research application, continuing application, or report a statement of certification, endorsed by an institutional official, that all manuscripts or publications are properly and accurately cited in the application; the institution must also submit a copy of the certification to ORI;

(2) To exclude himself from serving in any advisory capacity to PHS, including but not limited to service on any PHS advisory committee, board, and/or peer review committee, or as a consultant.

FOR FURTHER INFORMATION CONTACT: Director, Division of Investigative Oversight, Office of Research Integrity, 5515 Security Lane, Suite 700, Rockville, MD 20852, (301) 443-5330.

Chris Pascal,
Director, Office of Research Integrity.

[FR Doc. 00-31361 Filed 12-8-00; 8:45 am]

BILLING CODE 4155-31-P